DEPARTMENT OF ENERGY

National Energy Technology Laboratory; Notice of Availability of a Financial Assistance Solicitation

AGENCY: National Energy Technology Laboratory (NETL), Department of Energy (DOE).

ACTION: Notice of Availability of a Financial Assistance Solicitation.

SUMMARY: Notice is hereby given of the intent to issue Financial Assistance Solicitation No. DE-PS26-02NT15377 entitled “Technology Development with Independents.” The Department of Energy (DOE) National Energy Technology Laboratory (NETL), on behalf of its National Petroleum Technology Office (NTPO), seeks cost-shared applications for Research and Development advocating solutions for production problems experienced by small U.S. independent oil producing operators. Small independent oil producing operators are defined as (1) companies employing less than 50 full-time employees; and (2) having no affiliation with a major oil or gas producer (domestic or foreign) unless the combined number of employees of all affiliates is less than 50 full-time employees and total gross revenues of all affiliates is less than $100 million.

Proposed efforts must incorporate innovative field technologies for use by small U.S. independent oil producing operators to increase production, reduce operating costs, increase environmental compliance, or combinations thereof. The types of technologies to be considered are not limited to buy may include reservoir characterization, well drilling, completion or stimulation, environmental compliance, artificial lift, well remediation, secondary or tertiary oil recovery, and production management.

DATES: The solicitation will be available on the “Industry Interactive Procurement System” (IIPS) Web page located at http://e-center.doe.gov on or about 11 February 2002. Applicants can obtain access to the solicitation from the address above or through DOE/NETL's Web site at http://www.netl.doe.gov/business.

FOR FURTHER INFORMATION CONTACT: Mary Beth Pearse MS 921-107, U.S. Department of Energy, National Energy Technology Laboratory, 626 Cochrans Mill Rd., P.O. Box 10940, Pittsburgh, PA 15236-0940. E-mail Address: pearse@netl.doe.gov.

SUPPLEMENTARY INFORMATION: The National Petroleum Technology Office of the Department of Energy (DOE) Office of Fossil Energy (FE) National Energy Technology Lab (NETL) is soliciting cost-shared applications for solutions for production problems and is restricted to small U.S. independent oil producing operators.

DOE anticipates issuing Financial Assistance (Grant) awards. DOE reserves the right to support or not support, with or without discussions, any or all applications received in whole or in part, and to determine how many awards will be made. Multiple awards are anticipated. Approximately $900,000 of DOE funding is planned over a one-year period for this solicitation. The program seeks to sponsor projects for a single budget/project period of 24 months or less. All applicants are required to cost share at a minimum of 50% of the project total, the estimated funding or cost sharing by the DOE being $75,000 per award, or less. Details of the cost sharing requirement, and the specific funding levels are contained in the solicitation.

Once released, the solicitation will be available for downloading from the IIPS internet page. At this Internet site you will also be able to register with IIPS, enabling you to submit an application. If you need technical assistance in registering or for any other IIPS function, call the IIPS Help Desk at (800) 683-0751, or e-mail the Help Desk personnel at IIPS HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by e-mail that the solicitation has been released to the public. Telephone requests, written requests, e-mail requests, or facsimile requests for a copy of the solicitation package will not be accepted and/or honored. Applications must be prepared and submitted in accordance with the instructions and forms contained in the solicitation. The actual solicitation document will allow for requests for explanation and/or interpretation.

Issued in Pittsburgh, PA, on 20 February 2002.
Dale A. Siciliano,
Deputy Director, Acquisition and Assistance Division.

[FR Doc. 02-5433 Filed 3-6-02; 8:45 am]

BILLING CODE 6450-01-P